DEPARTMENT OF TRANSPORTATION

Federal Aviation Administration

14 CFR Parts 25, 27, 29, 91, 121, 125, and 135

[Docket No.: FAA-2019-0491; Notice No. 23-12]

RIN 2120-AK34

Interior Parts and Components Fire Protection for Transport Category Airplanes; Extension of Comment Period

AGENCY: Federal Aviation Administration (FAA), Department of Transportation (DOT).

ACTION: Supplemental notice of proposed rulemaking (SNPRM); Extension of comment period.

SUMMARY: This action extends the comment period for a SNPRM titled “Interior Parts and Components Fire Protection for Transport Category Airplanes” that was published on August 17, 2023. In that document, the FAA provided additional information on its proposed elimination of a smoke emissions testing requirement. The FAA also changed its calculations related to the proposed rule's costs and benefits. The FAA is extending the comment period closing date to allow commenters additional time to analyze the proposed rule and prepare a response.

DATES: The comment period for the SNPRM published on August 17, 2023, at 88 FR 55941, is extended. Comments should be received on or before November 30, 2023.

ADDRESSES: Send comments identified by docket number FAA-2019-0491 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Jeff Gardlin, AIR-20, Office of Senior Technical Experts, Aircraft Certification Service, Federal Aviation Administration, 2200 South 216th Street, Des Moines, WA 98198; telephone (206) 231-3146; email Jeff.Gardlin@faa.gov.

SUPPLEMENTARY INFORMATION:

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

B. Availability of Rulemaking Documents

An electronic copy of rulemaking documents may be obtained from the internet by—

1. Searching the Federal eRulemaking Portal at www.regulations.gov;

2. Visiting the FAA's Regulations and Policies web page at www.faa.gov/regulations_policies/; or

3. Accessing the Government Printing Office's web page at www.GovInfo.com.

Copies may also be obtained by sending a request to the Federal Aviation Administration, Office of Rulemaking, ARM-1, 800 Independence Avenue SW, Washington, DC 20591, or by calling (202) 267-9680. Commenters must identify the docket or notice number of this rulemaking.

All documents the FAA considered in developing this proposed rule, including economic analyses and technical reports, may be accessed from the internet through the Federal eRulemaking Portal referenced in item (1) above.

Background

On August 17, 2023, the FAA published a SNPRM titled “Interior Parts and Components Fire Protection for Transport Category Airplanes” in the Federal Register (88 FR 55941; Notice No. 23-12). In the SNPRM, the FAA provided additional information on its proposed elimination of a smoke emissions testing requirement. The FAA also changed its calculations related to the proposed rule's costs and benefits. Although the rule language is repeated in the SNPRM for completeness, there are no changes to the rule language as originally proposed in the associated NPRM. The FAA is extending the comment period closing date to allow commenters additional time to analyze the proposed rule and prepare a response. Commenters were instructed to provide comments on or before October 2, 2023 (i.e., 45 days from the date of publication of the SNPRM).

Since publication, the FAA has received five requests to extend the comment period by an additional one hundred and twenty (120) days. The commenters requested more time to review the proposed rule and develop comments and recommendations.

The FAA grants the petitioners' request for an extension of the comment period. The FAA recognizes the importance of the proposed rule and that an extension would help commenters craft complete and thoughtful responses. However, the FAA believes that an additional sixty (60) days provides sufficient opportunity to review the SNPRM and provide comments. With this extension, the comment period will now close on November 30, 2023. This will provide the public with a total of one hundred and five (105) days to conduct its review and submit comments to the docket.

The FAA will not grant any additional requests to further extend the comment period for this rulemaking.

Extension of Comment Period

In accordance with § 11.47(c) of Title 14, Code of Federal Regulations, the FAA has reviewed the petitions for extension of the comment period for this notice. The petitioners have shown a substantive interest in the proposed policy and good cause for the extension of the comment period. The FAA has determined that an extension of the comment period for an additional sixty (60) days to November 30, 2023 is consistent with the public interest, and that good cause exists for taking this action.

Accordingly, the comment period for Notice No. 23-12 is extended until November 30, 2023.

Issued under authority provided by 49 U.S.C. 106(f), 44701(a), and 44703 in Washington, DC.
Brandon Roberts,
Executive Director, Office of Rulemaking.

[FR Doc. 2023-21581 Filed 9-29-23; 8:45 am]

BILLING CODE 4910-13-P